DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by April 21, 2004.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered species. If you wish to comment, you may submit comments by any one of the following methods. You may mail comments to the Service's Regional Office (see ADDRESSES section) or via electronic mail (e-mail) to “victoria_davis@fws.gov”. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Gerald Pottern, Robert J. Goldstein & Asociates, Inc., Raleigh, North Carolina, TE083026-0.

The applicant requests authorization to take (capture, identify, and release) the following species: Cape Fear shiner (Notropis mekistocholas), Waccamaw silverside (Menidia extensa), Roanoke logperch (Percina rex), yellowfin madtom (Noturus flavipinnis), slender chub (Erimystax (Hybopsis) cahni), blue shiner (Cyprinella caerulea), blackside dace (Phoxinus cumberlandensis), Conasauga logperch (Percina jenkinsi), spotfin chub (Cyprinella (Hybopsis) monacha), Cherokee darter (Etheostoma scotti), snail darter (Percina tanasi), duskytail darter (Etheostoma percnurum), goldline darter (Percina aurolineata), Amber darter (Percina antsella), Etowah darter (Etheostoma etowahae), Applachian elktoe (Alasmidonta raveneliana), Carolina heelsplitter (Lasmigona decorata), Dwarf wedge mussel (Alasmidonta heterodon), James spinymussel (Pleurobema collina), Little-wing pearlymussel (Pegias fabula), Oyster mussel (Epioblasma capsaeformis), Tar spinymussel (Elliptio steinstansana), bog turtle (Clemmys (Glyptemys) muhlenbergii), Eastern indigo snake (Drymarchion corais couperi), gopher tortoise (Gopherus polyphemus), and flatwoods salamander (Ambystoma cingulatum) while conducting presence and absence studies and population monitoring. The proposed activities would occur in Virginia, North Carolina, South Carolina, and Georgia.

Applicant: Jereme N. Phillips, Gulf Shores, Alabama, TE083648-0.

The applicant requests authorization to take (capture, hold temporarily, tissue collection, transport for treatment, nest monitoring, euthanize, and release) the loggerhead sea turtle (Caretta caretta), Kemp's Ridley (Lepidochelys kempi), green sea turtle (Chelonia mydas), Hawksbill sea turtle (Eretmochelys imbricata), and leatherback sea turtle (Dermochelys coriacea) while administrating the State stranding program, conducting presence and absence studies, and managing the population. The proposed activities would occur in the State of Alabama. Injured or sick sea turtles would be transported to facilities in Florida, Mississippi, or Louisiana.

Applicant: Curtis S. Garriock, Pittsboro, North Carolina, TE083020-0.

The applicant requests authorization to take (capture and release) Saint Francis' Satyr (Neonympha mitchellii francisci) while conducting presence and absence studies and population inventories. The activities would take place at Fort Bragg Army Base, Cumberland and Hoke Counties, North Carolina.

Applicant: Erin Kathleen Garrison, Tennessee Cooperative Fishery Unit, Cookeville, Tennessee, TE083662-0.

The applicant requests authorization to take (capture, tissue samples, sacrifice one, and release) the bluemask darter (Etheostoma (Doration) sp.) while investigating genetic flow between seemingly isolated populations of the species and determining the amount of genetic variation within populations. The proposed activities would occur on Cane Creek (Van Buren County, Tennessee), the Caney Fork (White County, Tennessee), and Collins River (Grundy and Warren County, Tennessee). These rivers drain into Great Fall Reservoir (White County, Tennessee).

Applicant: Dr. Gary O. Graening, The Nature Conservancy, Little Rock, Arkansas, TE083697-0.

The applicant requests authorization to take (use diving lights underwater and collect one voucher specimen from each new location) the Amblyopsis rosae, Cambarus aculabrum, and Cambarus zophonastes while updating their status and distribution and while performing ongoing monitoring of the populations and their habitat. The activities would take place in Benton, Carroll, Washington, Madison, Boone, Stone, Newton, Marion, Baxter, Sharp, Randolph, Izard, Searcy, Independence, Crawford, and Lawrence Counties, Arkansas; Delaware, Ottawa, Adair, and Cherokee Counties, Oklahoma.

Applicant: Fish and Wildlife Associates, Inc., Pamela M. Boaze, Whittier, North Carolina, TE083941-0.

The applicant requests authorization to take (capture, identify, and release) the following species: Blue shiner (Cyprinella caerulea), Etowah darter (Etheostoma etowahae), Cherokee darter (Etheostoma scotti), Amber darter (Percina antesella), goldline darter (Percina aurolineata), Conasauga logperch (Percina jenkinsi), snail darter (Percina tanasi), flatwoods salamander (Ambystoma cingulatum), fat threeridge (Amblema neislerii), purple bankclimber (Elliptoideus sloatianus), upland combshell (Epioblasma metastriata), southern acornshell (Epioblasma othcaloogensis), southern combshell (Epioblasma penita), fine-lined pocketbook (Lampsilis altilis), Orange-nacre mucket (Lampsilis perovalis), shinyrayed pocketbook (Lampsilis subangulata), Alabama moccasinshell (Medionidus acutissimus), Coosa moccasinshell (Medionidus parvulus), gulf moccasinshell (Medionidus penicillatus), Ochlockonee moccasinshell (Medionidus simpsonianus), southern clubshell (Pleurobema decisum), southern pigtoe (Pleurobema georgianum), ovate clubshell (Pleurobema perovatum), oval pigtoe (Pleurobema pyriforme), and triangular kidneyshell (Ptychobranchus greenii) while conducting presence and absence studies and population monitoring. The proposed activities would occur throughout the State of Georgia.

Applicant: USDA Forest Service, Southern Research Station, Charles Andrew Dolloff, Blacksburg, Virginia, TE084010-0.

The applicant requests authorization to take (capture, identify, examine, measure, release) the Carolina heelsplitter (Lasmigona decorata). The purpose of the take would be to describe habitat conditions and mussel distribution, density, and population size structure within a 16 km reach of Mountain Creek using quantitative, statistically valid and repeatable methods. Specifically, the proposed activities would take place at the confluence of Mountain Creek and Turkey Creek, south of State Road 62 crossing; Edgefield and Greenwood Counties, South Carolina.

Applicant: North Carolina State University, Department of Botany, Qiu-yun Xiang, Raleigh, North Carolina, TE084018-0.

The applicant request authorization to possess (collect leaf material and seeds) from the (Echinacea laevigata) smooth coneflower for while conducting genetic diversity analyses and out crossing rates. The proposed activities would occur in the States of Georgia, North Carolina, South Carolina, and Virginia.

Applicant: URS Corporation, James R. Orr, Franklin, Tennessee, TE084054-0.

The applicant request authorization to take (capture, identify, release) the Anthony's river snail (Athernia anthonyi) while conducting dredging and presence or absence surveys. The proposed activities would occur in Jackson County, Alabama.

Dated: March 10, 2004.
Sam D. Hamilton,
Regional Director.

[FR Doc. 04-6331 Filed 3-19-04; 8:45 am]

BILLING CODE 4310-55-P